DEPARTMENT OF TRANSPORTATION

Federal Aviation Administration

14 CFR Part 39

[Docket No. 2002-NM-236-AD]

RIN 2120-AA64

Airworthiness Directives; Gulfstream Aerospace LP Model Astra SPX and 1125 Westwind Astra Series Airplanes

AGENCY: Federal Aviation Administration, DOT.

ACTION: Notice of proposed rulemaking (NPRM).

SUMMARY: This document proposes the adoption of a new airworthiness directive (AD) that is applicable to certain Model Astra SPX and 1125 Westwind Astra series airplanes. This proposal would require detailed inspections and resistance measurements of the starter generator electrical cables of both engines to detect damage, and replacement of the electrical cable and cable support if any damage is found. This proposal would also require eventual replacement of the cable support. This action is necessary to prevent chafing of the starter generator cable, which could result in electrical arcing in the vicinity of a fuel line, and possible fire or explosion. This action is intended to address the identified unsafe condition.

DATES: Comments must be received by February 6, 2004.

ADDRESSES: Submit comments in triplicate to the Federal Aviation Administration (FAA), Transport Airplane Directorate, ANM-114, Attention: Rules Docket No. 2002-NM-236-AD, 1601 Lind Avenue, SW., Renton, Washington 98055-4056. Comments may be inspected at this location between 9 a.m. and 3 p.m., Monday through Friday, except Federal holidays. Comments may be submitted via fax to (425) 227-1232. Comments may also be sent via the Internet using the following address: 9-anm-nprmcomment@faa.gov. Comments sent via fax or the Internet must contain “Docket No. 2002-NM-236-AD” in the subject line and need not be submitted in triplicate. Comments sent via the Internet as attached electronic files must be formatted in Microsoft Word 97 or 2000 or ASCII text.

The service information referenced in the proposed rule may be obtained from Gulfstream Aerospace Corporation, P.O. Box 2206, Mail Station D25, Savannah, Georgia 31402. This information may be examined at the FAA, Transport Airplane Directorate, 1601 Lind Avenue, SW., Renton, Washington.

FOR FURTHER INFORMATION CONTACT: Tim Dulin, Aerospace Engineer, International Branch, ANM-116, FAA, Transport Airplane Directorate, 1601 Lind Avenue, SW., Renton, Washington 98055-4056; telephone (425) 227-2141; fax (425) 227-1149.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this action may be changed in light of the comments received.

Submit comments using the following format:

• Organize comments issue-by-issue. For example, discuss a request to change the compliance time and a request to change the service bulletin reference as two separate issues.

• For each issue, state what specific change to the proposed AD is being requested.

• Include justification (e.g., reasons or data) for each request.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this action must submit a self-addressed, stamped postcard on which the following statement is made: “Comments to Docket Number 2002-NM-236-AD.” The postcard will be date stamped and returned to the commenter.

Availability of NPRMs

Any person may obtain a copy of this NPRM by submitting a request to the FAA, Transport Airplane Directorate, ANM-114, Attention: Rules Docket No. 2002-NM-236-AD, 1601 Lind Avenue, SW., Renton, Washington 98055-4056.

Discussion

The Civil Aviation Administration of Israel (CAAI), which is the airworthiness authority for Israel, notified the FAA that an unsafe condition may exist on certain Gulfstream Aerospace LP Model Astra SPX and 1125 Westwind Astra series airplanes. The CAAI advises that there has been a report of electrical failure on one airplane. Investigation revealed that the starter generator electrical cable was chafed in the area of the firewall support, and that the cable shorted to the structure. This condition, if not corrected, could result in electrical arcing in the vicinity of a fuel line, and possible fire or explosion.

Explanation of Relevant Service Information

Gulfstream Aerospace LP has issued Gulfstream Service Bulletin 100-54-252, dated April 24, 2002, which describes procedures for repetitive detailed inspections of the starter generator electrical cables of both engines to detect damage. If no damage is found, the service bulletin describes procedures for measuring the insulation resistance between the cable and the support. If any damage is found or if the insulation resistance is less than 20 megaohms, the service bulletin describes procedures for replacement of the electrical cables and cable support prior to further flight. If no damage is found, and the insulation resistance is more than 20 megaohms, the service bulletin describes procedures for repetitive inspection and eventual replacement of the cable support at the next engine removal. Replacement of the cable support and the cable, as necessary, is considered terminating action for repetitive inspections. Accomplishment of the actions specified in the service bulletin is intended to adequately address the identified unsafe condition. The CAAI classified this service bulletin as mandatory and issued Israeli airworthiness directive 54-02-06-12, dated July 4, 2002, to ensure the continued airworthiness of these airplanes in Israel.

FAA's Conclusions

These airplane models are manufactured in Israel and are type certificated for operation in the United States under the provisions of § 21.29 of the Federal Aviation Regulations (14 CFR 21.29) and the applicable bilateral airworthiness agreement. Pursuant to this bilateral airworthiness agreement, the CAAI has kept the FAA informed of the situation described above. The FAA has examined the findings of the CAAI, reviewed all available information, and determined that AD action is necessary for products of this type design that are certificated for operation in the United States.

Explanation of Requirements of Proposed Rule

Since an unsafe condition has been identified that is likely to exist or develop on other airplanes of the same type design registered in the United States, the proposed AD would require accomplishment of the actions specified in the service bulletin described previously, except as discussed below.

Differences Between the Proposed AD and the Service Bulletin

While the service bulletin gives a compliance time of “at the next engine removal” for replacement of the cable support if no damage is found, this proposed AD gives a compliance time for the replacements of “within 5 years after the effective date of this AD, or at the next engine removal, whichever occurs first.” This difference has been coordinated with the CAAI.

Although the service bulletin specifies to submit certain information to the manufacturer, this proposed AD does not include such a requirement.

Difference Between the Proposed AD and the Israeli AD

While the Israeli AD does not require repetitive inspections until replacement, the proposed AD would require, and the service bulletin recommends repetitive inspections at intervals not to exceed 250 flight hours until the applicable replacement is accomplished.

Cost Impact

The FAA estimates that 55 airplanes of U.S. registry would be affected by this proposed AD; that it would take approximately 2 work hours per airplane to accomplish the proposed inspection and measurement; 4 hours per airplane to accomplish the proposed replacement of the cable support if no damage is found; and 12 hours per airplane to accomplish the proposed replacement of the cable and cable support if any damage is found. The average labor rate is $65 per work hour. All necessary parts will be provided by the manufacturer free of charge. Based on these figures, the cost impact of the proposed inspection and measurement on U.S. operators is estimated to be $7,150, or $130 per airplane, per inspection cycle. For airplanes on which no damage is found, the cost impact of the proposed replacement on U.S. operators is estimated to be $14,300, or $260 per airplane. For airplanes on which damage is found, the cost impact of the proposed replacement on U.S. operators is estimated to be $42,900, or $780 per airplane.

The cost impact figure discussed above is based on assumptions that no operator has yet accomplished any of the proposed requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

Gulfstream Aerospace LP (Formerly Israel Aircraft Industries, Ltd.): Docket 2002-NM-236-AD.

Applicability: Model Astra SPX and 1125 Westwind Astra series airplanes, serial numbers 004 through 141 inclusive; certificated in any category.

Compliance: Required as indicated, unless accomplished previously.

To prevent chafing of the starter generator cable, which could result in electrical arcing in the vicinity of a fuel line, and possible fire or explosion, accomplish the following:

Service Bulletin Reference

(a) The following information pertains to the service bulletin referenced in this AD:

(1) The term “service bulletin,” as used in this AD, means the Accomplishment Instructions of Gulfstream Service Bulletin 100-54-252, dated April 24, 2002.

(2) Although the service bulletin referenced in this AD specifies to submit certain information to the manufacturer, this AD does not include such a requirement.

Initial and Repetitive Inspections

(b) Within 250 flight hours after the effective date of this AD, perform a detailed inspection of the starter generator electrical cables of both engines to detect damage, per the service bulletin.

Note 1: For the purposes of this AD, a detailed inspection is defined as: “An intensive visual examination of a specific structural area, system, installation, or assembly to detect damage, failure, or irregularity. Available lighting is normally supplemented with a direct source of good lighting at intensity deemed appropriate by the inspector. Inspection aids such as mirror, magnifying lenses, etc., may be used. Surface cleaning and elaborate access procedures may be required.”

Follow-on Action if No Damage Is Found

(c) If no damage is found during any inspection required by paragraph (b) of this AD: Before further flight, measure the insulation resistance between the starter generator cable and firewall support in accordance with the service bulletin.

(1) If the measured resistance is less than 20 Megaohms: Before further flight, replace the electrical cables and cable support per paragraph (d) of this AD.

(2) If the measured resistance is greater than or equal to 20 Megaohms, repeat the inspection required by paragraph (b) of this AD at intervals not to exceed 250 flight hours, including the follow-on measurement in paragraph (c), as applicable, until the applicable replacement required by paragraph (d) or (e) of this AD is accomplished.

Replacement if Any Damage Is Found

(d) If any damage is found during any inspection required by paragraph (b), or if the insulation resistance as required to be measured by paragraph (c) of this AD is less than 20 megaohms: Before further flight, replace the electrical cables and cable support per Part C of the service bulletin. This replacement terminates the repetitive inspections required by paragraph (b) and the measurement required by paragraph (c) of this AD, for that affected engine.

Replacement if No Damage is Found

(e) If no damage is found during any inspection required by paragraph (b) or if the insulation resistance as required to be measured by paragraph (c) of this AD is greater than or equal to 20 megaohms: Within 5 years after the effective date of this AD, or at the next engine removal, whichever comes first, replace the cable support per Part B of the service bulletin. This replacement terminates the repetitive inspections required by paragraph (b) and the measurement required by paragraph (c) of this AD, for that affected engine.

Alternative Methods of Compliance

(f) In accordance with 14 CFR 39.19, the Manager, International Branch, ANM-116, FAA, Transport Airplane Directorate, is authorized to approve alternative methods of compliance for this AD.

Note 2: The subject of this AD is addressed in Israeli airworthiness directive 54-02-06-12, dated July 4, 2002.

Issued in Renton, Washington, on December 31, 2003.
Michael J. Kaszycki,
Acting Manager, Transport Airplane Directorate, Aircraft Certification Service.

[FR Doc. 04-271 Filed 1-6-04; 8:45 am]

BILLING CODE 4910-13-P